POSTAL SERVICE

39 CFR Part 111

New Preparation for Periodicals Flats in Mixed Area Distribution Center Bundles and Sacks

AGENCY: Postal Service.

ACTION: Proposed rule.

SUMMARY: The Postal Service currently allows Periodicals mailers to prepare two types of mixed area distribution center (ADC) bundles and sacks, including a new type of optional mixed ADC bundle and sack that improves service for Periodicals without adding processing costs. We are proposing to make this optional separation a requirement beginning July 6, 2006.

DATES: We must receive comments on our proposed standards on or before April 6, 2006.

ADDRESSES: Mail or deliver written comments to the Manager, Mailing Standards, U.S. Postal Service, 475 L'Enfant Plaza SW., Room 3436, Washington DC 20260-3436. You may inspect and photocopy all written comments between 9 a.m. and 4 p.m., Monday through Friday, at USPS Headquarters Library, 475 L'Enfant Plaza SW., 11th Floor North, Washington DC 20260.

FOR FURTHER INFORMATION CONTACT: Donald Lagasse, 202-268-7269.

SUPPLEMENTARY INFORMATION: On October 27, 2005, the Postal Service provided Periodicals mailers an option to separate their residual mail prepared in mixed area distribution center (ADC) bundles and sacks and to create a new type of mixed ADC bundle and sack. We offered this option because it improves service for some Periodicals without adding processing costs. The new separation allows us to integrate Periodicals flats into the First-Class mailstream for Periodicals addressed to destinations within the First-Class Mail surface transportation reach of the office of entry.

Under the new preparation, mailers separate some mixed ADC mail according to the destination ZIP Codes in new labeling list L201. Pieces prepared according to L201 are processed with First-Class Mail by the entry office. The remaining mixed ADC mail destined for ZIP Codes farther from the office of entry is sent to one of the 34 origin facilities designated in labeling list L009 for consolidated processing.

To fully benefit from this new preparation, Periodicals mailers should begin preparing Periodicals mail under these standards as soon as possible. Having all mixed ADC mail prepared uniformly allows us to establish a consistent network and operating procedure for handling this mail across our processing facilities. Processing some Periodicals mail with the existing outgoing First-Class Mail at approximately 330 locations will have little impact on the operations at these offices but will relieve the 34 locations currently processing this consolidated volume of a significant amount of work. Finally, splitting the mixed ADC mail currently prepared in one or more sacks into two separations will have minimal or, in some cases, no impact on the number of containers that are prepared in Periodicals mailings.

Although we are exempt from the notice and comment requirements of the Administrative Procedure Act [5 U.S.C. of 553(b), (c)] regarding proposed rulemaking by 39 U.S.C. 410(a), we invite comments on the following proposed revisions to Mailing Standards of the United States Postal Service, Domestic Mail Manual (DMM), incorporated by reference in the Code of Federal Regulations. See 39 CFR 111.1.

List of Subjects in 39 CFR Part 111

Postal Service.

Accordingly, 39 CFR part 111 is proposed to be amended as follows:

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Amend Mailing Standards of the United States Postal Service, Domestic Mail Manual (DMM) as follows:

705 Advanced Preparation and Special Postage Payment Systems

* * * * *

9.0 Preparation for Cotraying and Cosacking Bundles of Automation and Presorted Flats

* * * * *

9.2 Periodicals

* * * * *

9.2.5 Sack Preparation and Labeling

* * * * *

[Revise the bundle labeling requirements in item f for origin mixed ADC mail.]

f. Origin mixed ADC. Required for any remaining pieces for destinations in L201, Column C, of the origin ZIP Code in Column A. There is no minimum for the number of pieces in the sack, but bundles of fewer than six pieces at 5-digit, 3-digit, and ADC bundle levels are not permitted.

1. Line 1: Use L201, Column C.

2. Line 2: “PER” or “NEWS” as applicable, followed by “FLTS WKG W FCM.”

* * * * *

9.2.6 Optional Tray Preparation—Flat-Size Pieces

* * * * *

a. ADC * * *

* * * * *

[Revise item a2 to match the CIN code.]

2. Line 2: “PER” or “NEWS” as applicable, followed by “FLTS,” followed by “ADC,” followed by “BC/NBC.”

* * * * *

c. Mixed ADC * * *

* * * * *

[Revise item c2 to match the CIN code.]

2. Line 2: “PER” or “NEWS” as applicable, followed by “FLTS,” followed by “BC/NBC WKG.”

* * * * *

10.0 Preparation for Merged Containerization of Bundles of Flats Using City State Product

10.1 Periodicals

* * * * *

10.1.4 Sack Preparation and Labeling

* * * * *

[Revise the preparation requirements in item h for origin mixed ADC mail.]

h. 3-digit through mixed ADC sacks. Any 5-digit scheme and 5-digit bundles remaining after preparing sacks under 10.1.4a through 10.1.4g, and all 3-digit scheme, 3-digit, ADC, origin mixed ADC, and mixed ADC bundles must be sacked and labeled according to the applicable requirements under 9.2 for cosacking of automation rate and presorted rate bundles, except if there are no automation rate pieces in the mailing job, sack and label under 707.22.6, or, if there are no presorted rate bundles in the mailing job, sack and label under 707.25.3.

* * * * *

11.0 Preparation of Cobundled Automation Rate and Presorted Rate Flats

* * * * *

11.2 Periodicals

* * * * *

11.2.2 Bundle Preparation

* * * * *

[Revise the bundling requirements in item g for origin mixed ADC mail.]

g. Origin mixed ADC, required; no minimum; for any remaining pieces for destinations of the origin ZIP Code in L201, Column C, of the origin ZIP Code in Column A; tan Label X or OEL.

* * * * *

707 Periodicals

* * * * *

22.0 Preparation of Presorted Periodicals

* * * * *

22.2 Bundle Preparation

* * * * *

[Revise the bundle labeling requirements in item e for origin mixed ADC mail.]

e. Origin mixed ADC, required; no minimum; for any remaining pieces for destinations in L201, Column C, of the origin ZIP Code in Column A; tan label X or OEL.

* * * * *

22.6 Sack Preparation—Flat-Size Pieces and Irregular Parcels

* * * * *

[Revise the sacking requirements in item f for origin mixed ADC mail.]

f. Origin mixed ADC, required; no minimum; for any remaining bundles for destinations in L201, Column C, of the origin ZIP Code in Column A.

1. Line 1: Use L201, Column C.

2. Line 2: “PER” or “NEWS” as applicable, followed by “FLTS” or “IRREG” as applicable, followed by “WKG W FCM.”

* * * * *

25.0 Preparation of Flat-Size Automation Periodicals

* * * * *

25.2 Bundling and Labeling

* * * * *

[Revise the bundling and labeling requirements in item f for origin mixed ADC mail.]

f. Origin mixed ADC, required; no minimum; for any remaining pieces for destinations in L201, Column C, of the origin ZIP Code in Column A; tan label X or OEL.

* * * * *

25.3 Sacking and Labeling

* * * * *

[Revise the sacking and labeling requirements in item g for origin mixed ADC mail.]

g. Origin mixed ADC, required; no minimum; for any remaining pieces for destinations in L201, Column C, of the origin ZIP Code in Column A; labeling:

1. Line 1: Use L201, Column C.

2. Line 2: “PER FLTS WKG W FCM” or “NEWS FLTS WKG W FCM,” as applicable.

* * * * *

We will publish an appropriate amendment to 39 CFR 111 to reflect these changes if our proposal is adopted.

Neva R. Watson,
Attorney, Legislative.

[FR Doc. E6-3143 Filed 3-6-06; 8:45 am]

BILLING CODE 7710-12-P